Proclamation 10589 of May 31, 2023

Black Music Month, 2023

By the President of the United States of America

A Proclamation

During Black Music Month, we pay homage to legends of American music, who have composed the soundtrack of American life. Their creativity has given rise to distinctly American art forms that influence contemporary music worldwide and sing to the soul of the American experience.

Much of Black music is rooted in African rhythms, coupled with the experience of slavery and struggle in America. Barred from expressing themselves in their native tongues, enslaved people developed a language to articulate their hopes, dreams, sense of loss, and tenacity to overcome the harrowing nature of their lives. They used music to strategically and creatively voice their most deeply held feelings. Today, the creative ways that Black music tells stories of trial and triumph in American life continue to move us all to understand the common struggles of humanity. Spirituals, gospel, the blues, R&B, rock and roll, jazz, pop, rap, hip-hop, and more have molded American culture and given rise to new American art forms emulated around the globe.

Since taking office, my Administration has supported American creators and communities—uplifting more voices, inspiring new generations, and showing the full power of our example as a great Nation. We have invested hundreds of millions of dollars in strengthening the National Endowment for the Arts and the National Endowment for the Humanities while securing over a billion more to help concert halls, theaters, museums, libraries, and other venues recover from the COVID-19 pandemic. I have also had the honor of celebrating legendary Black musicians at the White House who, along with thousands more across the country, have made a lifetime of contributions to this Nation.

This month, we celebrate the songs and artists that challenge us to think critically, stand up to injustice, and believe in ourselves. We recommit to expanding the promise of dignity and opportunity for all Americans. And we revel in the sounds, spirit, and soul of some of the very best music ever created.

NOW, THEREFORE, I, JOSEPH R. BIDEN JR., President of the United States of America, by virtue of the authority vested in me by the Constitution and the laws of the United States, do hereby proclaim June 2023 as Black Music Month. I call upon public officials, educators, and all the people of the United States to observe this month by honoring Black musicians and raising awareness and appreciation of Black music.

IN WITNESS WHEREOF, I have hereunto set my hand this thirty-first day of May, in the year of our Lord two thousand twenty-three, and of the Independence of the United States of America the two hundred and forty-seventh.

[FR Doc. 2023-12056

Filed 6-2-23; 8:45 am]

Billing code 3395-F3-P